DEPARTMENT OF ENERGY

Federal Energy Regulatory Commission

Combined Notice of Filings

Take notice that the Commission has received the following Natural Gas Pipeline Rate and Refund Report filings:

Filings Instituting Proceedings

Docket Number: PR17-12-001.

Applicants: Columbia Gas of Maryland, Inc..

Description: Tariff filing per 284.123(b),(e)/: CMD SOC effective 10-27-2016 Amendment to be effective 10/27/2016; Filing Type: 1000.

Filed Date: 12/13/2016.

Accession Number: 201612135028.

Comments/Protests Due: 5 p.m. ET 1/3/17.

Docket Number: PR17-13-000.

Applicants: Jefferson Island Storage & Hub, L.L.C.

Description: Market Power Study Reaffirming Market-Based Rates.

Filed Date: 12/8/2016.

Accession Number: 20161208-5175.

Comments/Protests Due: 5 p.m. ET 12/29/16.

Docket Numbers: RP17-253-000.

Applicants: Guardian Pipeline, L.L.C.

Description: § 4(d) Rate Filing: Negotiated Rate PAL Agreement with MIECO INC. to be effective 12/10/2016.

Filed Date: 12/9/16.

Accession Number: 20161209-5191.

Comments Due: 5 p.m. ET 12/21/16.

Docket Numbers: RP17-255-000.

Applicants: Sea Robin Pipeline Company, LLC.

Description: Compliance filing Annual Flowthrough Crediting Mechanism Filing on 12/12/16.

Filed Date: 12/12/16.

Accession Number: 20161212-5058.

Comments Due: 5 p.m. ET 12/27/16.

Docket Numbers: RP17-256-000.

Applicants: Texas Eastern Transmission, LP.

Description: Compliance filing Gas Quality Settlement.

Filed Date: 12/13/16.

Accession Number: 20161213-5000.

Comments Due: 5 p.m. ET 12/27/16.

Docket Numbers: RP17-257-000.

Applicants: Rockies Express Pipeline LLC.

Description: § 4(d) Rate Filing: Neg Rate 2016-12-2 Capacity Enhancement Amend Many Ks to be effective 12/13/2016.

Filed Date: 12/13/16.

Accession Number: 20161213-5110.

Comments Due: 5 p.m. ET 12/27/16.

Docket Numbers: RP17-258-000.

Applicants: Gulf Shore Energy Partners, LP.

Description: Compliance filing Gulf Shore Energy Partners—Cost and Revenue Study.

Filed Date: 12/13/16.

Accession Number: 20161213-5113.

Comments Due: 5 p.m. ET 12/27/16.

Docket Numbers: RP17-259-000.

Applicants: Natural Gas Pipeline Company of America.

Description: § 4(d) Rate Filing: Negotiated Rate—Occidental Energy to be effective 1/1/2017.

Filed Date: 12/13/16.

Accession Number: 20161213-5148.

Comments Due: 5 p.m. ET 12/27/16.

Docket Numbers: RP17-260-000.

Applicants: Texas Eastern Transmission, LP.

Description: § 4(d) Rate Filing: Negotiated Rate—Piedmont Release to Atmos—8944225 to be effective 12/9/2016.

Filed Date: 12/13/16.

Accession Number: 20161213-5237.

Comments Due: 5 p.m. ET 12/27/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP17-200-001.

Applicants: Guardian Pipeline, L.L.C.

Description: Tariff Amendment: Amendment to Docket No. RP17-200-000 to be effective 12/31/2016.

Filed Date: 12/12/16.

Accession Number: 20161212-5208.

Comments Due: 5 p.m. ET 12/27/16.

Docket Numbers: RP17-71-001.

Applicants: Algonquin Gas Transmission, LLC.

Description: Compliance filing AGT FRQ 2016 Compliance Filing.

Filed Date: 12/12/16.

Accession Number: 20161212-5084.

Comments Due: 5 p.m. ET 12/27/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2016.
Nathaniel J. Davis, Sr.,
Deputy Secretary.

[FR Doc. 2016-30677 Filed 12-20-16; 8:45 am]

BILLING CODE 6717-01-P